DEPARTMENT OF HEALTH AND HUMAN SERVICES

Centers for Disease Control and Prevention

National Task Force on Fetal Alcohol Syndrome and Fetal Alcohol Effect: Meeting

In accordance with section 10(a)(2) of the Federal Advisory Committee Act (Pub. L. 92-463), the Centers for Disease Control and Prevention (CDC) announces the following Federal advisory committee meeting.

Name: National Task Force on Fetal Alcohol Syndrome and Fetal Alcohol Effect (NTFFASFAE).

Times and Dates: 8:30 a.m.-4:30 p.m., May 16, 2002. 8:30 a.m.-3 p.m., May 17, 2002.

Place: Doubletree Hotel Atlanta Buckhead, 3340 Peachtree Road, NE, Atlanta, Georgia 30326, telephone 404/231-1234, fax 404/231-5236.

Status: Open to the public, limited only by the space available. The meeting room accommodates approximately 65 people.

Purpose: The Secretary is authorized by the Public Health Service Act, Section 399G, (42 U.S.C. Section 280f, as added by Public Law 105-392) to establish a National Task Force on Fetal Alcohol Syndrome and Fetal Alcohol Effect to: (1) foster coordination among all governmental agencies, academic bodies and community groups that conduct or support Fetal Alcohol Syndrome (FAS) and Fetal Alcohol Effect (FAE) research, programs and surveillance; and (2) to otherwise meet the general needs of populations actually or potentially impacted by FAS and FAE.

Matters To Be Discussed: Discussions will focus on ways the Task Force can collaborate with CDC on issues of diagnosis of FAS/FAE and to better equip health care providers to recognize the disorder; the special needs of birth mothers of children with FAS/FAE; a discussion of the Substance Abuse and Mental Health Services Administration FAS/FAE Center for Excellence on their initial “stakeholders” meetings and the interaction with the Task Force; an update on progress with the ICCFAS; new research items presented by the CDC; and a discussion of the implementation of the Task Force recommendations by various governmental agencies. Additional agenda items include: Working group updates; discussion of future topics, and scheduling the next meeting.

Agenda items are subject to change as priorities dictate.

Contact Person for More Information: R. Louise Floyd, DSN, RN, Designated Federal Official, National Center on Birth Defects and Developmental Disabilities, CDC, 4700 Buford Highway, NE, (F-49), Atlanta, Georgia 30333, telephone 770/488-7372, fax 770/488-7361.

The Director, Management Analysis and Services Office, has been delegated the authority to sign Federal Register notices pertaining to announcements of meetings and other committee management activities for both the Centers for Disease Control and Prevention and the Agency for Toxic Substances and Disease Registry.

Dated: April 9, 2002.
Alvin Hall,
Acting Director, Management Analysis and Services Office, Centers for Disease Control and Prevention.

[FR Doc. 02-9386 Filed 4-17-02; 8:45 am]

BILLING CODE 4163-18-P